INTERNATIONAL TRADE COMMISSION

[Investigation No. 337-TA-1353]

Certain Pick-Up Truck Folding Bed Cover Systems and Components Thereof (III); Notice of Commission Determination Not To Review an Initial Determination Granting Complainants' Motion for Leave To Amend the Complaint and Notice of Investigation

AGENCY: U.S. International Trade Commission.

ACTION: Notice.

SUMMARY: Notice is hereby given that the U.S. International Trade Commission has determined not to review an initial determination (“ID”) (Order No. 9) of the presiding administrative law judge (“ALJ”) granting the complainants' motion for leave to amend the complaint and notice of investigation to change the names of several respondents in the above-captioned investigation.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On February 27, 2023, the Commission instituted this investigation based on a complaint, as supplemented, filed on behalf of Extang Corporation of Ann Arbor, Michigan and UnderCover Inc. of Rogersville, Missouri (together, “Complainants”). 88 FR 12422 (Feb. 27, 2023). The complaint alleged violations of section 337 of the Tariff Act of 1930, as amended, 19 U.S.C. 1337, based upon the importation into the United States, the sale for importation, and the sale within the United States after importation of certain pick-up truck folding bed cover systems and components thereof that infringe certain claims of U.S. Patent Nos. 7,188,888; 7,484,788; 8,061,758; 7,537,264; 8,182,021; 8,690,224; and 9,815,358. Id. The complaint also alleged that a domestic industry exists. Id. The Commission's notice of investigation names as respondents: 4 Wheel Parts of Compton, California; American Trucks of Lenexa, Kansas; Auto Dynasty a/k/a Shun Fung Int'l Inc. of City of Industry, California; AUTOSTARLAND Technology (US) Inc. of Riverside, California; DNA Motoring of City of Industry, California; Fanciest Pickup Accessories of Riverside, California; Future Trucks a/k/a Future Trading Company, LLC of Houston, Texas; Ikon Motorsports Inc. of City of Industry, California; Jiaxing Kscar Auto Accessories Co., Ltd. a/k/a KSC Auto of Pinghu City, China; Kiko Kikito of Ruian City, China; Lyon Cover Auto a/k/a Truck Tonneau Covers of Wenzhou City, China; Mamoru Cover, a/k/a Ningbo Surpass Auto Parts Co., Ltd. of Ningbo City, China; MOSTPLUS Auto, of Hong Kong, China; Newpowa America, Inc. of Ontario, California; New Home Materials, Inc. of Riverside, California; OEDRO of Kent, Washington; Pickup Zone, a/k/a Dai Qun Feng of Riverside, California; RDJ Trucks, LLC of Talmo, Georgia; Smittybilt, Inc. of Compton, California; Trek Power, Inc. of Placentia, California; and Wenzhou Tianmao Automobile Parts Co., Ltd. of Wenzhou City, China. Id. The Office of Unfair Import Investigations (“OUII”) is participating in this investigation. Id.

On April 21, 2023, Complainants filed an unopposed motion to amend the complaint and notice of investigation to change the names of several respondents based on information obtained after the filing of the complaint. Specifically, Complainants sought to: (1) change the names of current respondents 4 Wheel Parts and Smittybilt, Inc. to TAP Worldwide, LLC d/b/a 4 Wheel Parts; (2) change the name of current respondent MOSTPLUS Auto to Ultimate Motor Parts Limited; (3) change the name of current respondent OEDRO to Hong Kong Yintatech Network Co., Ltd. a/k/a OEDRO; (4) change the name of current respondent Ikon Motorsports, Inc. to Advance Tuning, LLC d/b/a Ikon Motorsports, Inc.; (5) change the names of current respondents AUTOSTARLAND Technology (US), Inc. and Pickup Zone a/k/a Dai Qun Feng to Autostarland Technology (US), Inc. dba Pickup Zone; (6) change the name of current respondent Mamoru Cover a/k/a Ningbo Surpass Auto Parts Co., Ltd. to Ningbo Surpass Auto Parts Co., Ltd.; (7) change the name of current respondent American Trucks to American Trucks Inc. and Turn 5 d/b/a American Trucks; (8) change the name of current respondent Kiko Kikito to Wenzhou Tianmao Automobile Parts Co., Ltd. DBA Kikito and Rui'an Yiming Trading Co. Ltd.; and (9) change the name of current respondent Lyon Cover Auto a/k/a Truck Tonneau Covers to Wenzhou Tianmao Automobile Parts Co., Ltd. DBA Lyon Cover and Wenzhou Chaoming Auto Parts Co., Ltd. On May 1, 2023, OUII filed a response in support of the motion.

On May 4, 2023, pursuant to Commission Rules 210.14(b)(1) and 210.21(a)(1) (19 CFR 210.14(b)(1) and 210.21(a)(1)), the ALJ issued the subject ID granting leave to amend the complaint and notice of investigation to make the above changes. No party petitioned for review of the subject ID.

The Commission has determined not to review the subject ID.

The Commission vote for this determination took place on May 30, 2021.

The authority for the Commission's determination is contained in section 337 of the Tariff Act of 1930, as amended (19 U.S.C. 1337), and in part 210 of the Commission's Rules of Practice and Procedure (19 CFR part 210).

By order of the Commission.
Issued: May 31, 2023.
Lisa Barton,
Secretary to the Commission.

[FR Doc. 2023-11860 Filed 6-2-23; 8:45 am]

BILLING CODE 7020-02-P